DEPARTMENT OF ENERGY

Federal Energy Regulatory Commission

Combined Notice of Filings #1

January 2, 2008.

Take notice that the Commission has received the following Natural Gas Pipeline Rate and Refund Report filings:

Docket Numbers: RP96-200-185.

Applicants: CenterPoint Energy Gas Transmission Comp.

Description: CenterPoint Energy Gas Transmission Co. submits the negotiated rate agreements with Connect Energy Services, LLC.

Filed Date: 12/27/2007.

Accession Number: 20071228-0046.

Comment Date: 5 p.m. Eastern Time on Tuesday, January 8, 2008.

Docket Numbers: RP96-320-075.

Applicants: Gulf South Pipeline Company, LP.

Description: Gulf South Pipeline Company, LP submits interim contracts executed by Gulf South and its various customers in relation to the East Texas Mississippi Expansion Project.

Filed Date: 12/19/2007.

Accession Number: 20071226-0078.

Comment Date: 5 p.m. Eastern Time on Friday, January 4, 2008.

Docket Numbers: RP97-186-005.

Applicants: Trunkline Gas Company, LLC.

Description: Trunkline Gas Company LLC submits Substitute Second Revised Sheet 28 to FERC Gas Tariff, Third Revised Volume 1, to become effective 12/15/07.

Filed Date: 12/19/2007.

Accession Number: 20071220-0199.

Comment Date: 5 p.m. Eastern Time on Friday, January 4, 2008.

Docket Numbers: RP99-176-148.

Applicants: Natural Gas Pipeline Company of America.

Description: Natural Gas Pipeline Company of America submits Transportation Rate Schedule FTS Agreement with a negotiated rate exhibit (Agreement) between Natural and Encana Marketing (USA) Inc etc.

Filed Date: 12/21/2007.

Accession Number: 20071226-0077.

Comment Date: 5 p.m. Eastern Time on Friday, January 4, 2008.

Docket Numbers: RP04-67-002.

Applicants: NGO Transmission, Inc.

Description: NGO Transmission, Inc submits First Revised Sheet 1 et al. to FERC Gas Tariff, First Revised Volume 1, effective 1/1/08.

Filed Date: 12/21/2007.

Accession Number: 20071227-0151.

Comment Date: 5 p.m. Eastern Time on Friday, January 4, 2008.

Docket Numbers: RP08-41-001.

Applicants: Iroquois Gas Transmission System, L.P.

Description: Iroquois Gas Transmission System, LP submits Second Revised Sheet 108 et al. to FERC Gas Tariff, First Revised Volume 1, effective 1/21/08.

Filed Date: 12/21/2007.

Accession Number: 20071227-0150.

Comment Date: 5 p.m. Eastern Time on Friday, January 4, 2008.

Docket Numbers: RP08-41-002.

Applicants: Iroquois Gas Transmission System, L.P.

Description: Iroquois Gas Transmission System, LP submits Second Revised Sheet 108 et al. to FERC Gas Tariff, First Revised Volume 1, effective 1/21/08.

Filed Date: 12/26/2007.

Accession Number: 20071228-0045.

Comment Date: 5 p.m. Eastern Time on Monday, January 7, 2008.

Docket Numbers: RP08-47-001.

Applicants: Wyoming Interstate Company, Ltd.

Description: Wyoming Interstate Company, Ltd submits Nineteenth Revised Sheet 4C et al. to FERC Gas Tariff, Second Revised Volume 2, effective 1/28/08.

Filed Date: 12/28/2007.

Accession Number: 20071231-0192.

Comment Date: 5 p.m. Eastern Time on Wednesday, January 9, 2008.

Docket Numbers: RP08-132-000.

Applicants: CenterPoint Energy Gas Transmission Co.

Description: CenterPoint Energy Gas Transmission Company submits First Revised Sheet 181 et al. to FERC Gas Tariff, Sixth Revised Volume 1, effective 2/1/08.

Filed Date: 12/20/2007.

Accession Number: 20071226-0079.

Comment Date: 5 p.m. Eastern Time on Friday, January 4, 2008.

Docket Numbers: RP08-133-000.

Applicants: Texas Eastern Transmission, L.P.

Description: Texas Eastern Transmission, LP submits its FERC Gas Tariff, Seventh Revised Volume No. 1, the tariff sheets listed in Appendix A to the filing, to be effective 1/21/08.

Filed Date: 12/21/2007.

Accession Number: 20071226-0080.

Comment Date: 5 p.m. Eastern Time on Friday, January 4, 2008.

Docket Numbers: RP08-134-000.

Applicants: Cheyenne Plains Gas Pipeline Company LLC.

Description: Cheyenne Plains Gas Pipeline Company, LLC submits its Second Revised Sheet 104 et al. to its FERC Gas Tariff, Original Volume 1, effective 1/21/08.

Filed Date: 12/21/2007.

Accession Number: 20071226-0081.

Comment Date: 5 p.m. Eastern Time on Friday, January 4, 2008.

Docket Numbers: RP08-135-000.

Applicants: CenterPoint Energy-Mississippi River Transmission

Description: CenterPoint Energy-Mississippi River Transmission Corporation submits Eighth Revised Sheet 11 et al. to its FERC Gas Tariff, Third Revised Volume 1.

Filed Date: 12/21/2007.

Accession Number: 20071226-0082.

Comment Date: 5 p.m. Eastern Time on Friday, January 4, 2008.

Docket Numbers: RP08-136-000.

Applicants: CenterPoint Energy Gas Transmission Company

Description: CenterPoint Energy Gas Transmission Company submits Fourteenth Revised Sheet 17 et al. to its FERC Gas Tariff, Sixth Revised Volume 1, effective 1/20/08.

Filed Date: 12/21/2007.

Accession Number: 20071226-0083.

Comment Date: 5 p.m. Eastern Time on Friday, January 4, 2008.

Docket Numbers: RP08-137-000.

Applicants: Cheniere Creole Trail Pipeline, LP.

Description: Cheniere Creole Trail Pipeline, LP's CD that contains FERC Gas Tariff, Original Volume 1, proposed to be effective 2/15/08.

Filed Date: 12/20/2007.

Accession Number: 20071220-4010.

Comment Date: 5 p.m. Eastern Time on Friday, January 4, 2008.

Docket Numbers: RP08-138-000.

Applicants: Northern Natural Gas Company.

Description: Petition of Northern Natural Gas Company for a Limited Waiver of Tariff Provisions.

Filed Date: 12/21/2007.

Accession Number: 20071226-0084.

Comment Date: 5 p.m. Eastern Time on Friday, January 4, 2008.

Docket Numbers: RP08-139-000.

Applicants: Iroquois Gas Transmission System, L.P.

Description: Iroquois Gas Transmission System, LP submits schedules which reflect revised calculations supporting the Measurement Variance/Fuel Use Factors utilized during the period of 7/1/07-12/31/07.

Filed Date: 12/28/2007.

Accession Number: 20071231-0194.

Comment Date: 5 p.m. Eastern Time on Wednesday, January 9, 2008.

Docket Numbers: RP08-140-000.

Applicants: Kinder Morgan Interstate Gas Trans. LLC.

Description: Kinder Morgan Interstate Gas Transmission LLC submits the annual reconciliation filing pursuant to Section 35 of the Crediting of Imbalance Revenue of its FERC Gas Tariff, Fourth Revised Volume 1-B.

Filed Date: 12/28/2007.

Accession Number: 20071231-0193.

Comment Date: 5 p.m. Eastern Time on Wednesday, January 9, 2008.

Docket Numbers: RP08-141-000.

Applicants: TransColorado Gas Transmission Company.

Description: TransColorado Gas Transmission LLC submits First Revised Sheet 242 to FERC Gas Tariff, First Revised Volume 1, to be effective 11/1/07.

Filed Date: 12/28/2007.

Accession Number: 20071231-0195.

Comment Date: 5 p.m. Eastern Time on Wednesday, January 9, 2008.

Docket Numbers: RP08-142-000.

Applicants: Questar Overthrust Pipeline Company.

Description: Questar Overthrust Pipeline Company submits 1st Rev. Second Revised Sheet 21 et al. to FERC Gas Tariff, Second Revised Volume 1-A.

Filed Date: 12/28/2007.

Accession Number: 20071231-0196.

Comment Date: 5 p.m. Eastern Time on Wednesday, January 9, 2008.

Docket Numbers: RP08-143-000.

Applicants: Sea Robin Pipeline Company, LLC.

Description: Sea Robin Pipeline Company, LLC submits the Annual Flow through Crediting Mechanism for the period November 2006-October 2007.

Filed Date: 12/28/2007.

Accession Number: 20071231-0197.

Comment Date: 5 p.m. Eastern Time on Wednesday, January 9, 2008.

Docket Numbers: RP08-144-000.

Applicants: Gulf States Transmission Corporation.

Description: Gulf States Transmission Corp submits Third Revised Sheet 5 to FERC Gas Tariff, Original Volume 1 pursuant to the Commission's Order.

Filed Date: 12/21/2007.

Accession Number: 20071231-0198.

Comment Date: 5 p.m. Eastern Time on Friday, January 4, 2008.

Docket Numbers: RP08-145-000.

Applicants: ANR Pipeline Company.

Description: ANR Pipeline Company submits Eighth Revised Sheet 162.01 et al. to FERC Gas Tariff, Second Revised Volume 1, effective 2/1/08.

Filed Date: 12/28/2007.

Accession Number: 20071231-0199.

Comment Date: 5 p.m. Eastern Time on Wednesday, January 9, 2008.

Docket Numbers: RP08-146-000.

Applicants: Florida Gas Transmission Company, LLC.

Description: Florida Gas Transmission Company, LLC submits the Annual Accounting Report Cash-out Mechanism Account Fuel Mechanism Balancing Tools Account for the period of August 2006-July 2007.

Filed Date: 12/28/2007.

Accession Number: 20071231-0200.

Comment Date: 5 p.m. Eastern Time on Wednesday, January 9, 2008.

Docket Numbers: RP08-147-000.

Applicants: Carolina Gas Transmission Corporation.

Description: Carolina Gas Transmission Corp submits the Interruptible Transportation Revenue Sharing Report for credit on the invoice for December service for the Accrual Period of 11/1/06 to 10/31/07.

Filed Date: 12/31/2007.

Accession Number: 20071231-0201.

Comment Date: 5 p.m. Eastern Time on Monday, January 14, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-146 Filed 1-8-08; 8:45 am]

BILLING CODE 6717-01-P